DEPARTMENT OF AGRICULTURE

Forest Service

Revised Land and Resource Management Plan; Kaibab National Forest; Arizona

AGENCY: Forest Service, USDA.

ACTION: Notice of Initiation to revise the Kaibab National Forest Land and Resource Management Plan.

SUMMARY: The Forest Service is revising the Kaibab National Forest's Land and Resource Management Plan (hereafter referred to as the forest plan). This notice describes the documents available for review and how to obtain them; summarizes the need to change the forest plan; provides information concerning public participation and collaboration, including the process for submitting comments; provides an estimated schedule for the planning process, including the time available for comments; and includes names and addresses for agency officials who can provide additional information.

DATES: Revision formally begins with the publication of this notice in the Federal Register. Many public comments regarding forest plan revision have already been received at public meetings and through e-mail, phone calls, and letters. Comments on the need for change and Comprehensive Evaluation Report (CER) will be of most value to the Forest Service if received by June 15, 2009.

ADDRESSES: Send written comments to Kaibab National Forest, Attention: Forest Plan Revision Team, 800 S. 6th St., Williams, Arizona 86046; via e-mail to comments-southwestern-kaibab@fs.fed.us; or via facsimile to (928) 635-8208, with “Forest Plan Revision” in the subject line.

FOR FURTHER INFORMATION CONTACT: Ariel Leonard, Assistant Forest Planner at (928) 635-8283 or e-mail: aleonard@fs.fed.us. Individuals who use telecommunication devices for the deaf (TDD) may call the Federal Information Relay Service (FIRS) at 1-800-877-8339 between 8 a.m. and 8 p.m., Eastern Time, Monday through Friday.

SUPPLEMENTARY INFORMATION:

Documents Available for Review

The Comprehensive Evaluation Report (CER) evaluated how management under the current forest plan is affecting the current conditions and trends related to sustainability. It was developed by integrating information from the Ecological and the Socio-Economic Sustainability Reports. The CER considered the key findings from these two reports and used them to identify where the conditions and trends indicated a need for change in the current forest plan. These documents are available for review and are located on the forest's Web site at http://www.fs.fed.us/r3/kai/plan-revision/or by request.

Need for Change

The CER and subsequent Management Review identified four priority topics that will serve to focus the scope of this plan revision. These topics reflect the priority needs and potential changes in program direction that will be emphasized in the development of forest plan components:

1. Modify stand structure and density towards reference conditions and restore historic fire regimes. The multiple ecological, social, and economic benefits of reducing the risk of uncharacteristic fires made this a primary area of focus. Specific tasks include identifying desired conditions for forested ecosystems on the Kaibab National Forest (KNF) consistent with the regionally-developed desired conditions and setting treatment objectives for wildland-urban interface (WUI) and non-WUI areas.

2. Protect and regenerate aspen. The important role that aspen plays in providing local habitat diversity and scenery, combined with the widespread aspen decline in the Southwest, made the protection and regeneration of aspen a priority. Aspen will be addressed within the context of the desired conditions where it occurs.

3. Protect seeps, springs, ephemeral wetlands, and North Canyon Creek. The current forest plan offers little guidance for managing these rare and ecologically important resources. Actions to protect these natural waters are relatively inexpensive, easy to accomplish, and provide important ecological and social benefits.

4. Restore grasslands by reducing tree encroachment in grasslands and meadows. Grasslands are much less abundant than they were historically, which reduces the amount of available habitat for grassland-associated species. The subalpine/montane grasslands on the North Kaibab Ranger District are linear and as a result are at a higher risk of loss because trees encroach more quickly. There is a need to develop desired conditions and set objectives for all grassland ecosystems on the KNF. Currently, these are lacking in the existing forest plan.

There are other topics that need to be addressed with this plan revision. In addition to the priority needs for change topics above, the plan revision process will develop consistent, efficient, and scientifically-based plan components to provide direction for:

• Management response in the years immediately following large disturbance events.

• Managing energy corridors, renewable energy development requests, mining exploration and development, travel management implementation, special-use management, and special forest products collection.

• Managing for a balanced range of recreation opportunities, within the limits of the administrative and resource capacity.

Additionally, the Forest Service will review the results of the Wilderness Needs Assessment and the eligibility of Kanab Creek as a Wild and Scenic River. Where necessary, further evaluation will be conducted to consider and recommend potential wilderness, and to develop plan components in support of Wilderness management. Other needs for change have been and will continue to be identified. These may be addressed in the proposed plan, or incorporated into the plan in the future as amendments. Forest plans are intended to be adaptive, and an update to the CER will be prepared at least every five years. This iterative process facilitates the incorporation of new information and needs for change into the forest plan.

Public Participation and Opportunity to Comment

The revision process is designed to provide continued opportunities for public collaboration and open participation in the development of the revised forest plan. Additional information on the process, documents being produced, and public participation opportunities can be found on the Kaibab National Forest plan revision Web site at: http://www.fs.fed.us/r3/kai/planrevision/. The Forest Service is seeking public comments on the need for change identified in the CER. Substantive comments received prior to by June 15, 2009 will be of the most value in evaluating public response to the adequacy of the need for change topics outlined in the report and for developing the initial proposed draft plan. It is important to participate in the plan revision process as only those parties who participate in the planning process through the submission of written comments may submit an objection later in the proposed plan development process pursuant to 36 CFR 219.13(a). Comments received during the planning process, including names and addresses of those who commented will be part of the public record available for public inspection. The Responsible Official shall accept and consider comments submitted anonymously.

Estimated Schedule

The forest plan revision process for the Kaibab National Forest officially begins with the publication of this notice in the Federal Register. Public meetings will be held following release of the initial proposed draft plan, which is scheduled for July 2009. The dates, times, and locations of these meetings will be posted on the forest's Web site: http://www.fs.fed.us/r3/kai/plan-revision/. A more refined draft of the proposed forest plan will be available for predecisional review in the fall of 2009, with approval of the final plan scheduled to occur in September 2010.

Responsible Official

The Forest Supervisor of the Kaibab National Forest, Michael R. Williams, is the Responsible Official (36 CFR 219.2(b)(1)).

(Authority: 36 CFR 219.9(b)(2)(i), 73 FR 21509, April 21, 2008)

Dated: April 14, 2009.
Michael R. Williams,
Forest Supervisor.

[FR Doc. E9-8999 Filed 4-17-09; 8:45 am]

BILLING CODE 3410-11-P